DEPARTMENT OF THE INTERIOR

Fish and Wildlife Service

50 CFR Part 17

[Docket No. FWS-HQ-ES-2023-0033; FXES1113090FEDR-256-FF09E22000]

RIN 1018-BH98

Endangered and Threatened Wildlife and Plants; Endangered Species Status for the Blue Tree Monitor

AGENCY: Fish and Wildlife Service, Interior.

ACTION: Proposed rule.

SUMMARY: We, the U.S. Fish and Wildlife Service (Service), propose to list the blue tree monitor (Varanus macraei), a lizard species from Indonesia, as an endangered species under the Endangered Species Act of 1973, as amended (Act). This determination also serves as our 12-month finding on a petition to list the blue tree monitor. After a review of the best scientific and commercial information available, we find that listing the species is warranted. If we finalize this rule as proposed, it would add this species to the List of Endangered and Threatened Wildlife and extend the Act's protections to the species. A temporary rule (emergency action) listing this species as endangered for 240 days is published concurrently in this issue of the Federal Register.

DATES: We will accept comments received or postmarked on or before February 24, 2025. Comments submitted electronically using the Federal eRulemaking Portal (see ADDRESSES, below) must be received by 11:59 p.m. eastern time on the closing date. We must receive requests for a public hearing, in writing, at the address shown in FOR FURTHER INFORMATION CONTACT by February 10, 2025.

ADDRESSES: Written comments: You may submit comments by one of the following methods:

(1) Electronically: Go to the Federal eRulemaking Portal: https://www.regulations.gov. In the Search box, enter FWS-HQ-ES-2023-0033, which is the docket number for this rulemaking. Then, click on the Search button. On the resulting page, in the panel on the left side of the screen, under the Document Type heading, check the Proposed Rule box to locate this document. You may submit a comment by clicking on “Comment.”

(2) By hard copy: Submit by U.S. mail to: Public Comments Processing, Attn: FWS-HQ-ES-2023-0033, U.S. Fish and Wildlife Service, MS: PRB/3W, 5275 Leesburg Pike, Falls Church, VA 22041-3803.

We request that you send comments only by the methods described above. We will post all comments on https://www.regulations.gov. This generally means that we will post any personal information you provide us (see Information Requested, below, for more information).

Availability of supporting materials: Supporting materials, such as the species status assessment report, are available on https://www.regulations.gov at Docket No. FWS-HQ-ES-2023-0033.

FOR FURTHER INFORMATION CONTACT: Rachel London, Manager, Branch of Delisting and Foreign Species, Ecological Services Program, U.S. Fish and Wildlife Service, MS: ES, 5275 Leesburg Pike, Falls Church, VA 22041-3803; telephone 703-358-2171. Individuals in the United States who are deaf, deafblind, hard of hearing, or have a speech disability may dial 711 (TTY, TDD, or TeleBraille) to access telecommunications relay services. Individuals outside the United States should use the relay services offered within their country to make international calls to the point-of-contact in the United States. Please see Docket No. FWS-HQ-ES-2023-0033 on https://www.regulations.gov for a document that summarizes this proposed rule.

SUPPLEMENTARY INFORMATION:

Information Requested

We intend that any final action resulting from this proposed rule will be based on the best scientific and commercial data available and be as accurate and as effective as possible. Therefore, we request comments or information from other governmental agencies, Native American Tribes, the scientific community, industry, or any other interested parties concerning this proposed rule. We particularly seek comments concerning:

(1) The species' biology, range, and population trends, including:

(a) Biological or ecological requirements of the species, including habitat requirements for feeding, breeding, and sheltering;

(b) Genetics and taxonomy;

(c) Historical and current range, including distribution patterns and the locations of any additional populations of this species;

(d) Historical and current population levels, and current and projected trends; and

(e) Past and ongoing conservation measures for the species, its habitat, or both.

(2) Threats and conservation actions affecting the species, including:

(a) Factors that may be affecting the continued existence of the species, which may include habitat destruction, modification, or curtailment; overutilization; disease; predation; the inadequacy of existing regulatory mechanisms; or other natural or manmade factors;

(b) Biological, commercial trade, or other relevant data concerning any threats (or lack thereof) to this species; and

(c) Existing regulations or conservation actions that may be addressing threats to this species.

(3) Additional information concerning the historical and current status of this species.

Please include sufficient information with your submission (such as scientific journal articles or other publications) to allow us to verify any scientific or commercial information you include.

Please note that submissions merely stating support for, or opposition to, the action under consideration without providing supporting information, although noted, do not provide substantial information necessary to support a determination. Section 4(b)(1)(A) of the Act (16 U.S.C. 1533(b)(1)(A)) directs that determinations as to whether any species is an endangered or a threatened species must be made solely on the basis of the best scientific and commercial data available.

You may submit your comments and materials concerning this proposed rule by one of the methods listed in ADDRESSES. We request that you send comments only by the methods described in ADDRESSES.

If you submit information via https://www.regulations.gov, your entire submission—including any personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing this proposed rule, will be available for public inspection on https://www.regulations.gov.

Our final determination may differ from this proposal because we will consider all comments we receive during the comment period as well as any information that may become available after this proposal. Based on the new information we receive (and, if relevant, any comments on that new information), we may conclude that the species is threatened instead of endangered, or we may conclude that the species does not warrant listing as either an endangered species or a threatened species. In our final rule, we will clearly explain our rationale and the basis for our final decision, including why we made changes, if any, that differ from this proposal.

Public Hearing

Section 4(b)(5) of the Act (16 U.S.C. 1533(b)(5)) provides for a public hearing on this proposal, if requested. Requests must be received by the date specified in DATES. Such requests must be sent to the address shown in FOR FURTHER INFORMATION CONTACT. We will schedule a public hearing on this proposal, if requested, and announce the date, time, and place of the hearing, as well as how to obtain reasonable accommodations, in the Federal Register at least 15 days before the hearing. We may hold the public hearing in person or virtually via webinar. We will announce any public hearing on our website, in addition to the Federal Register. The use of virtual public hearings is consistent with our regulations in title 50 of the Code of Federal Regulations (CFR) at section 424.16(c)(3) (50 CFR 424.16(c)(3)).

Previous Federal Actions

On April 15, 2022, we received a petition from the Center for Biological Diversity to list the blue tree monitor as an endangered species under the Act (16 U.S.C. 1531 et seq.). On August 17, 2023, we published in the Federal Register (88 FR 55991) a 90-day finding that the petition presented substantial scientific and commercial information indicating that the petitioned action may be warranted; that document initiated a status review for the blue tree monitor.

Peer Review

A species status assessment (SSA) team prepared an SSA report for the blue tree monitor. The SSA report currently is undergoing peer review and will be finalized before a final listing decision is made. The SSA team was composed of Service biologists, in consultation with other species experts. The SSA report represents a compilation of the best scientific and commercial data available concerning the status of the species, including the impacts of past, present, and future factors (both negative and beneficial) affecting the species.

In accordance with our joint policy on peer review published in the Federal Register on July 1, 1994 (59 FR 34270), and our August 22, 2016, memorandum updating and clarifying the role of peer review in listing and recovery actions under the Act (https://www.fws.gov/sites/default/files/documents/peer-review-policy-directors-memo-2016-08-22.pdf), we will solicit independent scientific review of the information contained in the blue tree monitor SSA report. The SSA report and other materials related to this proposed rule can be found at https://www.regulations.gov under Docket No. FWS-HQ-ES-2023-0033.

Background

The blue tree monitor (Varanus macraei) is a medium-sized monitor lizard that is distinguished by a unique bright blue spotted pattern on its head, body, and legs (Böhme and Jacobs 2001, pp. 7-9; Auliya and Koch 2020, p. 72). The species has sharp claws, smooth and unkeeled neck scales, and a long prehensile tail with alternating blue and black bands (Böhme and Jacobs 2001, pp. 7-9; Auliya and Koch 2020, p. 72). The blue tree monitor was first described in 2001 (Böhme and Jacobs 2001, entire), and genetic testing confirms it is a distinct species (Ziegler et al. 2007, p. 16) that occupies the V. prasinus species complex (subgenus Hapturosaurus; Bucklitsch et al. 2016, pp. 37-38). Adults average a snout vent length of 31 centimeters (cm) (12.2 inches (in)) and total length of 88 cm (34.6 in) (Arida et al. 2021, p. 115; Del Canto 2013, p. 19; Ziegler et al. 2009, p. 123).

The blue tree monitor is endemic to the island of Batanta, within the Raja Ampat Islands of Papua, Indonesia (Böhme and Jacobs 2004, p. 214). Batanta has a total area of 455 square kilometers (sq km) (174.9 square miles (sq mi)), with a maximum length of 61 kilometers (km) (37.9 miles (mi)) and a maximum width of 13 km (8.1 mi) (Ziegler et al. 2009, p. 122). The species is rarely encountered on Batanta, so there is little detail available on the species' life-history and habitat requirements (Philipp and Philipp 2007, p. 867; Auliya and Koch 2020, p. 72). The blue tree monitor is diurnal and arboreal (Böhme and Jacobs 2004, p. 214; Del Canto 2013, p. 19; Ziegler et al. 2009, p. 122), primarily feeds on invertebrates (Auliya and Koch 2020, p. 72; Del Canto 2013, p. 20), and occupies low-lying forested habitats with an ambient humidity that ranges from 65 to 100 percent (Del Canto 2013, p. 19; Sprackland 2011, unpaginated).

No published studies describe the reproductive biology of the blue tree monitor in the wild; however, experts suggest that breeding activity coincides with periods of reduced rainfall, such as the post-monsoonal dry season (Rahmanto et al. 2022, p. 20; Ziegler et al. 2009, p. 130). Blue tree monitors are capable of laying up to four clutches of 2 to 7 eggs (average of 3.9 ± 1.2 eggs per clutch) per year, and the shortest interval between subsequent clutches was recorded at 95 days (Ziegler et al. 2009, p. 130). Because blue tree monitors take approximately 2 years to reach sexual maturity (Rauhaus et al. 2014, p. 33), we estimate the average generation time for the species to be approximately 2.5 years.

No quantitative population information for the species exists (Bennett 2015, p. 50), though there is evidence of declines in the wild population on Batanta as a result of overcollection for the pet trade (Arida et al. 2021, pp. 113-114; Del Canto 2013, p. 19; see Threats, below).

A thorough review of the taxonomy, life history, and ecology of the blue tree monitor is presented in the SSA report (version 1.1; Service 2024, pp. 1-7).

Regulatory and Analytical Framework

Regulatory Framework

Section 4 of the Act (16 U.S.C. 1533) and the implementing regulations in title 50 of the Code of Federal Regulations set forth the procedures for determining whether a species is an endangered species or a threatened species, issuing protective regulations for threatened species, and designating critical habitat for endangered and threatened species.

The Act defines an “endangered species” as a species that is in danger of extinction throughout all or a significant portion of its range, and a “threatened species” as a species that is likely to become an endangered species within the foreseeable future throughout all or a significant portion of its range. The Act requires that we determine whether any species is an endangered species or a threatened species because of any of the following factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to or are reasonably likely to negatively affect individuals of a species. The term “threat” includes actions or conditions that have a direct impact on individuals (direct impacts), as well as those that affect individuals through alteration of their habitat or required resources (stressors). The term “threat” may encompass—either together or separately—the source of the action or condition or the action or condition itself.

However, the mere identification of any threat(s) does not necessarily mean that the species meets the statutory definition of an “endangered species” or a “threatened species.” In determining whether a species meets either definition, we must evaluate all identified threats by considering the species' expected response and the effects of the threats—in light of those actions and conditions that will ameliorate the threats—on an individual, population, and species level. We evaluate each threat and its expected effects on the species, then analyze the cumulative effect of all of the threats on the species as a whole. We also consider the cumulative effect of the threats in light of those actions and conditions that will have positive effects on the species, such as any existing regulatory mechanisms or conservation efforts. The Secretary determines whether the species meets the definition of an “endangered species” or a “threatened species” only after conducting this cumulative analysis and describing the expected effect on the species.

The Act does not define the term “foreseeable future,” which appears in the statutory definition of “threatened species.” Our implementing regulations at 50 CFR 424.11(d) set forth a framework for evaluating the foreseeable future on a case-by-case basis, which is further described in the 2009 Memorandum Opinion on the foreseeable future from the Department of the Interior, Office of the Solicitor (M-37021, January 16, 2009; “M-Opinion,” available online at https://www.doi.gov/sites/doi.opengov.ibmcloud.com/files/uploads/M-37021.pdf). The foreseeable future extends as far into the future as the U.S. Fish and Wildlife Service and National Marine Fisheries Service (hereafter, the Services) can make reasonably reliable predictions about the threats to the species and the species' responses to those threats. We need not identify the foreseeable future in terms of a specific period of time. We will describe the foreseeable future on a case-by-case basis, using the best available data and taking into account considerations such as the species' life-history characteristics, threat projection timeframes, and environmental variability. In other words, the foreseeable future is the period of time over which we can make reasonably reliable predictions. “Reliable” does not mean “certain”; it means sufficient to provide a reasonable degree of confidence in the prediction, in light of the conservation purposes of the Act.

Analytical Framework

The SSA report documents the results of our comprehensive biological review of the best scientific and commercial data available regarding the status of the species, including an assessment of the potential threats to the species. The SSA report does not represent our decision on whether the species should be proposed for listing as an endangered or threatened species under the Act. However, it does provide the scientific basis that informs our regulatory decisions, which involve the further application of standards within the Act and its implementing regulations and policies.

To assess the blue tree monitor's viability, we used the three conservation biology principles of resiliency, redundancy, and representation (Shaffer and Stein 2000, pp. 306-310). Briefly, resiliency is the ability of the species to withstand environmental and demographic stochasticity (for example, wet or dry, warm or cold years); redundancy is the ability of the species to withstand catastrophic events (for example, droughts, large pollution events); and representation is the ability of the species to adapt to both near-term and long-term changes in its physical and biological environment (for example, climate conditions, pathogens). In general, species viability will increase with increases in (and decrease with decreases in) resiliency, redundancy, and representation (Smith et al. 2018, p. 306). Using these principles, we identified the species' ecological requirements for survival and reproduction at the individual, population, and species levels, and described the beneficial and risk factors influencing the species' viability.

The SSA process can be categorized into three sequential stages. During the first stage, we evaluated the individual species' life-history needs. The next stage involved an assessment of the historical and current condition of the species' demographics and habitat characteristics, including an explanation of how the species arrived at its current condition. The final stage of the SSA involved making predictions about the species' responses to positive and negative environmental and anthropogenic influences. Throughout all of these stages, we used the best available information to characterize viability as the ability of a species to sustain populations in the wild over time, which we then used to inform our regulatory decision.

The following is a summary of the key results and conclusions from the SSA report; the full SSA report can be found at Docket No. FWS-HQ-ES-2023-0033 on https://www.regulations.gov.

Summary of Biological Status and Threats

In this discussion, we review the biological condition of the species and its resources, and the threats that influence the species' current and future condition, in order to assess the species' overall viability and the risks to that viability.

Species Needs

Based on the species' biology described above and in the SSA report (version 1.1; Service 2024, pp. 1-7), the blue tree monitor requires an adequate supply of invertebrates for food; undisturbed, humid, lowland forests with good canopy cover and continuity; and sufficient conspecific individuals to find a mate. Owing to the limited data available, our assessment of species-level needs is developed further based on general principles as they apply to lizard biology.

Threats

Deforestation

Deforestation causes habitat loss that directly contributes to the decline of native reptile species in Indonesia (Iskandar and Erdelen 2006, p. 72), and Indonesia has one of the highest deforestation rates in the world (Newman and Valentinus 2005, p. 1). Illegal logging is contributing to the decline of forested areas on Batanta (Webb 2005, p. 10; Newman and Valentinus 2005, p. 19; Takeuchi 2003, p. 105), and much of the island's northern coast below 300 meters of elevation has already been logged (Webb 2005, p. 25). Because blue tree monitors occupy low-lying forested habitats, this substantial logging of low-lying forests has resulted in significant habitat loss for the species. Deforestation not only directly removes blue tree monitor habitat, but it also increases the ecosystem's vulnerability to catastrophic events such as fires, landslides, and floods (Newman and Valentinus 2005, p. 2). The blue tree monitor exists in a single population that is restricted in range to low-lying forested habitat within one small (455 sq km (174.9 sq mi)) island, so deforestation places the species at even greater risk of extirpation due to stochastic and catastrophic events.

Climate Change

The Intergovernmental Panel on Climate Change predicts that continued greenhouse gas emissions will likely increase global temperatures to 1.5 degrees Celsius (°C) (2.7 degrees Fahrenheit (°F)) above pre-industrial levels by 2040, even under optimistic low-emissions scenarios (Lee et al. 2023, p. 12). Extreme wet and dry events in Indonesia are expected become more frequent (Kurniadi et al. 2024, p. 160), which will increase the likelihood of natural disasters, such as landslides (Ahmad et al. 2019, p. 2) and tropical cyclones (Christensen et al. 2007, p. 879). Natural disasters ultimately exacerbate habitat loss, and each additional catastrophic event increases extirpation risk for the blue tree monitor. Considering the life history and biology of the blue tree monitor, habitat loss and climate change will continue to decrease the species' viability because of the species' specialized habitat requirements and narrow distribution.

Collection for International Pet Trade

Blue tree monitors are valuable on the international pet market, and collecting and selling them is a source of income for local residents on Batanta (Arida et al. 2021, pp. 112-115). Newly described species that are popular in the pet trade are often overcollected to the point that they become extirpated from their type locality (Stuart et al. 2006, p. 1137), and blue tree monitors are already undetectable or extirpated from Pulau Ayem, the collection site of the original type specimen (Del Canto 2013, p. 19; Arida et al. 2021, pp. 112-114). Furthermore, lizard hunters in Amdui Village have reported they now find fewer blue tree monitors during week-long hunting sessions than they found historically, and they can no longer find the species within the vicinity of their village and must travel by boat to more remote areas of Batanta to collect the species (Arida et al. 2021, pp. 114-116). Despite the indication that overcollection likely is causing unsustainable population declines, the blue tree monitor continues to be heavily collected from the wild for the international pet trade (Arida et al. 2021, pp. 114-115).

It is illegal to export wild blue tree monitors from Indonesia (wild includes specimens taken from the wild and held in captivity, specimens born in captivity where the parents mated in the wild such as from fertilized eggs or gravid females collected from the wild, and any specimens for which there is insufficient evidence that the specimen meets the requirements for captive-bred or bred in captivity); however, it is legal to export individuals bred in captivity (CITES source code C) with a permit (see Conservation Efforts and Regulatory Mechanisms, below). This effectively creates a loophole through which wild-caught blue tree monitors enter international trade when they are deliberately mislabeled as captive-bred (Bennett 2015, p. 56). Many of the facilities in Indonesia that claim to engage in captive breeding of blue tree monitors possess only wild-caught blue tree monitors (Auliya 2009, as cited in Koch et al. 2013, pp. 27-28), and a large percentage of these institutions lack the capability to successfully breed reptiles (Nijman and Shepherd 2009, p. 7). While it is possible that a small captive-breeding population of blue tree monitors has been established in Indonesia, there is no evidence that any such captive population has the capacity to be self-sustaining. To be self-sustaining, a population must produce offspring of F2 (the second generation of offspring that results from breeding two members of the first filial generation) and subsequent generations, resulting from the breeding between parents that mated in captivity, and without continued introduction of wild caught specimens. There is no evidence to suggest that the individuals being exported out of the country are legitimately captive-bred, because captive reproduction in blue tree monitors is sporadic and claims of subsequent generations are rare (Rauhaus et al. 2014, as cited in Bennett 2015, p. 56). Nevertheless, the majority of blue tree monitors exported out of Indonesia are declared bred in captivity even though they are likely sourced from the wild (Shepherd 2022, pp. 48-49; Bennett 2015, p. 56), and blue tree monitors that are legitimately bred in captivity represent less than 1 percent of worldwide trade (Bennett 2015, p. 50). This laundering of wild-caught lizards through captive-breeding facilities creates a false sense of sustainability. In reality, wild populations are declining (Janssen and Chng 2018, p. 24) and many monitor lizards do not survive long in captivity.

Monitor lizards are often subject to stressful, unhygienic, and inhumane conditions along the trade route (Koch et al. 2013, p. 48), and many specimens are injured or die before they are exported from Indonesia (Natusch and Lyons 2012, p. 2902; Marshall and Beehler 2007, as cited in Koch et al. 2013, p. 48). Those blue tree monitors that survive the trade route often do not survive long in captivity because tree monitors are particularly susceptible to chronic dehydration and require specialized care (Mendyk 2015, p. 10). Between 22.5 and 26.4 percent of monitor lizards die before their second year in captivity, regardless of the specimen's origins (e.g., wild-caught or captive-born; Mendyk 2015, p. 3). Because monitor lizards have a high mortality rate along the trade route and in captivity, wild-caught blue tree monitors will likely continue to be illegally exported out of Indonesia to meet the demand of the international pet market. Illegal trade not only disguises the true number of blue tree monitors that are taken from the wild, it also contributes to the underestimation of individuals present in the international pet market.

According to the Convention on International Trade in Endangered Species of Wild Fauna and Flora (CITES) Trade Database, between 2003 and 2022, a total of 5,502 individual blue tree monitors were exported from Indonesia for commercial purposes (Service 2024, p. 12). The United States is the largest importer of blue tree monitors and imported 1,455 live blue tree monitors from 2003 to 2022, which accounts for approximately 45 percent of the 3,225 global importations reported by CITES (Service 2024, pp. 11-13). In 2023, the Service's Law Enforcement Management Information System (LEMIS) recorded the importation of 153 individual blue tree monitors, the largest annual importation total to date, and more than double the yearly importation average prior to 2023. LEMIS consistently underreports the number of blue tree monitors imported into the United States when compared to the CITES trade database (Service 2024, p. 13), and the CITES trade database underestimates international trade numbers (Slábová et al. 2021, p. 2), because some specimens that are not reported in the CITES trade database are sometimes found advertised for sale (Bennett 2015, p. 51). This suggests that the true number of blue tree monitors that were imported into the United States in 2023 is likely higher than the figure reported by LEMIS.

Because reptile collectors often desire to keep rare and brightly colored species in their collection (Altherr and Lameter 2020, p. 6), the market demand for blue tree monitors will likely remain high. Overcollection for the pet trade is known to cause extirpations in newly described reptile species (Stuart et al. 2006, p. 1137). Overcollection represents an immediate threat to the blue tree monitor's viability because unsustainable exploitation will likely lead to the species becoming a rarer and more valuable commodity on the pet market, and thus a more appealing target for collection (Janssen and Krishnasamy 2018, p. 2). The average declared value of individual blue tree monitors in LEMIS has steadily increased from approximately $300 in 2003 to $540 in 2024 (U.S. dollars; Service 2024, p. 9), which is likely a reflection of the increasing rarity of the species, and the increasing demand for the species driving further pressure on the species in the wild. Ultimately, the unsustainable collection of blue tree monitors increases the species' risk of extinction.

Conservation Efforts and Regulatory Mechanisms

The blue tree monitor is not listed as a protected species in Indonesia (Regulation of the Republic of Indonesia No. 7/1999 on Preserving Flora and Fauna Species). Indonesia may establish a harvest and export quota for specifically listed non-protected species, which would allow for a purposeful, sustainable harvest of a species that benefits the local economy and ensures the long-term conservation of the species (Regulation of the Minister of Forestry No. 447/Kpts-11/2003). However, the blue tree monitor has no established harvest quota that allows for commercial trade, and, therefore, trade of wild-caught specimens is illegal under Indonesian law. Despite Indonesia having restrictions and guidelines in place to regulate the wildlife trade, few individuals abide by them (Natusch and Lyons 2012, p. 2905), and these laws and regulations are easily circumvented when trading protected species or species without commercial harvest quotas (Lyons and Natusch, 2011 p. 3; Natusch and Lyons, 2012 p. 2902).

Indonesia has been party to CITES since 1979, and the trade of CITES-listed wildlife from Indonesia is internationally monitored and regulated (Nijman 2019, pp. 197-198). All Varanus lizards have been listed under CITES Appendix II since 1975 (Shepherd 2022, p. 48). Under Indonesian law as a CITES Appendix-II species, it is illegal to export wild-caught specimens; however, individuals bred in captivity may be exported from Indonesia with a permit (Shepherd 2022, p. 48; Nijman 2019, p. 198). The Indonesian government regulates captive breeding through a “captive-breeding production plan,” which calculates a quota of animals allowed to be produced by registered captive-breeding facilities and exported with a permit (Janssen and Chng 2018, p. 19). These production quotas are based on inaccurate or unrealistic biological parameters, and often exceed a species' maximum possible reproductive output, or are allocated for species with no registered breeding stock (Janssen and Chng 2018, pp. 23-24). Furthermore, many registered companies claiming to be commercially breeding wildlife often lack facilities suitable for captive breeding, and there are often large discrepancies between reported breeding stock and the actual breeding stock present at these facilities (Nijman and Shepherd 2009, pp. 7-8). It is through this loophole that CITES regulations are circumvented in Indonesia, and wild-caught blue tree monitors are mislabeled as bred in captivity, exported from Indonesia through registered captive-breeding facilities, and enter the international pet trade (see Threats, above).

Batanta has one protected area, Pulau Batanta Barat, that covers 170.95 sq km (66 sq mi), but it is unlikely that this area offers effective protection to blue tree monitors, because logging has been observed within the protected area (Newman and Valentinus 2005, p. 19; Takeuchi 2003, p. 105), and the laws protecting the area are not adhered to by locals or corporations (Koch 2016, p. 40).

Current Condition

The best available scientific and commercial data indicate the blue tree monitor is a narrow endemic with low genetic diversity comprised of a single population that occupies one island with an area of approximately 455 sq km (174.9 sq mi) (Ziegler et al. 2009, p. 122). While no quantitative population data are available to definitively assess the population status and population trends of the blue tree monitor (Bennett 2015, p. 50), we are able to assess the resiliency of the species based on a multitude of factors. Ecological traits alone leave the blue tree monitor prone to extinction, because the risk of extinction is highest in monitor lizards that are arboreal, endemic to small islands, and associated with pristine tropical rainforest habitats (Koch et al. 2013, p. 46). The blue tree monitor satisfies all three of these criteria, and the greatest threats to the species' viability are habitat loss and overcollection for the pet trade.

Much of the blue tree monitor's limited habitat has already been lost due to deforestation, and illegal logging is expected to continue on Batanta due to the island's remoteness and lack of legal enforcement (Webb 2005, p. 25; Newman and Valentinus 2005, p. 19; Takeuchi 2003, p. 105). Habitat loss reduces the amount of space that blue tree monitors are able to occupy, which leaves the population more vulnerable to catastrophic events (e.g., fire, landslides, floods; Newman and Valentinus 2005, p. 2), and habitat loss diminishes the resiliency of a population that is also declining because of overcollection for the pet trade (see Threats, above). Because blue tree monitors are a valuable commodity on the international pet market (Arida et al. 2021, pp. 112), and have a high mortality rate along the trade route and in captivity (Natusch and Lyons 2012, p. 2902, Mendyk 2015, p. 3), it is likely that overcollection will continue, and together with habitat loss and other threats is likely to lead to the extirpation of the species if overcollection continues unabated (Janssen and Krishnasamy 2018, p. 2). Overcollection of newly described reptiles has previously resulted in their extirpation from type localities (Stuart et al. 2006, p. 1137), and this is already true for the blue tree monitor, as it is now undetectable or extirpated from its type locality (Del Canto 2013, p. 19; Arida et al. 2021, pp. 112-114). Furthermore, lizard hunters report that the remaining blue tree monitor population on Batanta is declining (Arida et al. 2021, pp. 114-116), and the species is becoming more valuable in the pet trade (Service 2024, p. 9), which is likely a reflection of their increasing rarity in the wild. The blue tree monitor has always been rare on Batanta (Philipp and Philipp 2007, p. 867), and because the single remaining population is declining and occupies a narrow range, the species has low resiliency to adapt to and withstand environmental and demographic stochasticity.

Species with high redundancy are less vulnerable to random catastrophic events because they have many populations that are geographically dispersed over a wide area. Because the blue tree monitor exists in a single population that is dispersed over an area that amounts to less than 455 sq km (174.9 sq mi) (Ziegler et al. 2009, p. 122), the species is vulnerable to extinction caused by catastrophic events and, therefore, has low redundancy.

Representation is improved in species with high genetic variability or that inhabit a wide range of ecological settings; both of these characteristics facilitate adaptation to future environmental changes, whether natural or anthropogenic. Blue tree monitors do not occupy a wide range of ecological settings and are restricted to low-lying, humid forests on a single island (Ziegler et al. 2009, p. 122; Del Canto 2013, p. 19; Sprackland 2011, unpaginated). Climate change further threatens the viability of the single blue tree monitor population because an increased frequency of extreme dry events threatens to decrease ambient humidity (Kurniadi et al. 2024, p. 160), which may increase blue tree monitor mortality resulting from dehydration (Mendyk 2015, p. 10). Because the blue tree monitor only has one population that occupies a single narrow ecological setting and the species has a low capacity to adapt to future environmental changes, the species has low representation.

We note that, by using the SSA framework to guide our analysis of the scientific information documented in the SSA report, we have analyzed the cumulative effects of identified threats and conservation actions on the species. To assess the current and future condition of the species, we evaluate the effects of all the relevant factors that may be influencing the species, including threats and conservation efforts. Because the SSA framework considers not just the presence of the factors, but to what degree they collectively influence risk to the entire species, our assessment integrates the cumulative effects of the factors and replaces a standalone cumulative-effects analysis.

Determination of Blue Tree Monitor's Status

Section 4 of the Act (16 U.S.C. 1533) and its implementing regulations (50 CFR part 424) set forth the procedures for determining whether a species meets the definition of an endangered species or a threatened species. The Act defines an “endangered species” as a species in danger of extinction throughout all or a significant portion of its range, and a “threatened species” as a species likely to become an endangered species within the foreseeable future throughout all or a significant portion of its range. The Act requires that we determine whether a species meets the definition of an endangered species or a threatened species because of any of the following factors: (A) The present or threatened destruction, modification, or curtailment of its habitat or range; (B) overutilization for commercial, recreational, scientific, or educational purposes; (C) disease or predation; (D) the inadequacy of existing regulatory mechanisms; or (E) other natural or manmade factors affecting its continued existence.

Status Throughout All of Its Range

After evaluating threats to the species and assessing the cumulative effect of the threats under the Act's section 4(a)(1) factors, we determined that the blue tree monitor population has been reduced across its range because of the loss of its limited habitat and overcollection for the international pet trade. Because the blue tree monitor is threatened by overcollection for the international pet trade and only exists in a single population that is endemic to a small island that is threatened by historical and current habitat loss, the species is at increased risk of extirpation due to stochastic and catastrophic events, and is immediately at risk of extinction. The blue tree monitor currently maintains insufficient resiliency, redundancy, and representation for its continued existence to be secure.

Thus, after assessing the best scientific and commercial data available, we determine that the blue tree monitor is in danger of extinction throughout all of its range. The species does not meet the statutory definition of a threatened species because it is currently in danger of extinction, whereas threatened species are those likely to become in danger of extinction within the foreseeable future.

Status Throughout a Significant Portion of Its Range

Under the Act and our implementing regulations, a species may warrant listing if it is in danger of extinction or likely to become so within the foreseeable future throughout all or a significant portion of its range. We have determined that the blue tree monitor is in danger of extinction throughout all of its range and accordingly did not undertake an analysis of any significant portion of its range. Because the blue tree monitor warrants listing as an endangered species throughout all of its range, our determination does not conflict with the decision in Center for Biological Diversity v. Everson, 435 F. Supp. 3d 69 (D.D.C. 2020), because that decision related to significant portion of the range analyses for species that warrant listing as threatened, not endangered, throughout all of their range.

Determination of Status

Based on the best scientific and commercial information available, we determine that the blue tree monitor meets the Act's definition of an endangered species. Therefore, we propose to list the blue tree monitor as an endangered species in accordance with sections 3(6) and 4(a)(1) of the Act.

Available Conservation Measures

The purposes of the Act are to provide a means whereby the ecosystems upon which endangered species and threatened species depend may be conserved, to provide a program for the conservation of such endangered species and threatened species, and to take such steps as may be appropriate to achieve the purposes of the treaties and conventions set forth in the Act. Under the Act, a number of steps are available to advance the conservation of species listed as endangered or threatened species. As explained further below, these conservation measures include: (1) recognition, (2) recovery actions, (3) requirements for Federal protection, (4) financial assistance for conservation programs, and (5) prohibitions against certain activities.

Recognition through listing results in public awareness, as well as in conservation by Federal, State, Tribal, and local agencies, foreign governments, private organizations, and individuals. The Act encourages cooperation with the States and other countries and calls for recovery actions to be carried out for listed species.

Section 7 of the Act is titled, “Interagency Cooperation,” and it mandates all Federal action agencies to use their existing authorities to further the conservation purposes of the Act and to ensure that their actions are not likely to jeopardize the continued existence of listed species or adversely modify critical habitat. Regulations implementing section 7 are codified at 50 CFR part 402.

Section 7(a)(2) states that each Federal action agency shall, in consultation with the Secretary, ensure that any action they authorize, fund, or carry out is not likely to jeopardize the continued existence of a listed species or result in the destruction or adverse modification of designated critical habitat.

A Federal “action” that is subject to the consultation provisions of section 7(a)(2) of the Act is defined in our implementing regulations at 50 CFR 402.02 as all activities or programs of any kind authorized, funded, or carried out, in whole or in part, by Federal agencies in the United States or upon the high seas. With respect to the blue tree monitor, no known actions would require consultation under section 7(a)(2) of the Act. Given the regulatory definition of “action,” which clarifies that it applies to activities or programs “in the United States or upon the high seas,” the blue tree monitor is unlikely to be the subject of section 7 consultations, because the entire life cycle of this species occurs in terrestrial areas outside of the United States and the species is unlikely to be affected by U.S. Federal actions. Additionally, no critical habitat will be designated for this species because, under 50 CFR 424.12(g), we will not designate critical habitat within foreign countries or in other areas outside of the jurisdiction of the United States.

Section 8(a) of the Act (16 U.S.C. 1537(a)) authorizes the provision of limited financial assistance for the development and management of programs that the Secretary of the Interior determines to be necessary or useful for the conservation of endangered or threatened species in foreign countries. Sections 8(b) and 8(c) of the Act (16 U.S.C. 1537(b) and (c)) authorize the Secretary to encourage conservation programs for foreign listed species, and to provide assistance for such programs, in the form of personnel and the training of personnel.

The Act and its implementing regulations set forth a series of general prohibitions and exceptions that apply to endangered wildlife. The prohibitions of section 9(a)(1) of the Act, and the Service's implementing regulations codified at 50 CFR 17.21, make it illegal for any person subject to the jurisdiction of the United States to commit, to attempt to commit, to solicit another to commit, or to cause to be committed any of the following acts with regard to any endangered wildlife: (1) import into, or export from, the United States; (2) take (which includes harass, harm, pursue, hunt, shoot, wound, kill, trap, capture, or collect, or to attempt to engage in any such conduct) within the United States, within the territorial sea of the United States, or on the high seas; (3) possess, sell, deliver, carry, transport, or ship, by any means whatsoever, any such wildlife that has been taken illegally; (4) deliver, receive, carry, transport, or ship in interstate or foreign commerce, by any means whatsoever and in the course of commercial activity; or (5) sell or offer for sale in interstate or foreign commerce. Certain exceptions to these prohibitions apply to employees or agents of the Service, the National Marine Fisheries Service, other Federal land management agencies, and State conservation agencies.

We may issue permits to carry out otherwise prohibited activities involving endangered wildlife under certain circumstances. Regulations governing permits for endangered wildlife are codified at 50 CFR 17.22, and general Service permitting regulations are codified at 50 CFR part 13. With regard to endangered wildlife, a permit may be issued: for scientific purposes, for enhancing the propagation or survival of the species, or for take incidental to otherwise lawful activities. The statute also contains certain exemptions from the prohibitions, which are found in sections 9 and 10 of the Act.

The Service may also register persons subject to the jurisdiction of the United States through its captive-bred wildlife (CBW) program if certain established requirements are met under the CBW regulations (see 50 CFR 17.21(g)). Through a CBW registration, the Service may allow a registrant to conduct certain otherwise prohibited activities under certain circumstances to enhance the propagation or survival of the affected species, including take; export or re-import; delivery, receipt, carriage, transport, or shipment in interstate or foreign commerce in the course of a commercial activity; or sale or offer for sale in interstate or foreign commerce. A CBW registration may authorize interstate purchase and sale only between entities that both hold a registration for the taxon concerned. The CBW program is available for species having a natural geographic distribution not including any part of the United States and other species that the Service Director has determined to be eligible by regulation. The individual specimens must have been born in captivity in the United States.

The provisions in section 9(b)(1) of the Act (16 U.S.C. 1538(b)(1)) provide a limited exemption from certain otherwise prohibited activities regarding wildlife specimens held in captivity or in a controlled environment on the pre-Act date (for species first listed after the enactment of the Endangered Species Act, the pre-Act date is the date of publication in the Federal Register of the final regulation adding such species to the List of Endangered and Threatened Wildlife for the first time), provided that such holding and any subsequent holding or use of the wildlife was not in the course of a commercial activity (commonly referred to as “pre-Act” specimens) (96 Stat. 1426-27 (1982); H.R. Rep. No. 97-835, 97th Cong., 2nd Sess., at 35 (1982) (Conf. Rep.); S. Rep. No. 97-418, 97th Cong., 2nd Sess., at 24-25 (1982)). Specifically, section 9(b)(1) of the Act states that the prohibitions of sections 9(a)(1)(A) and 9(a)(1)(G) shall not apply to any fish or wildlife which was held in captivity or in a controlled environment on (A) December 28, 1973, or (B) the date of the publication in the Federal Register of a final regulation adding such fish or wildlife to any list of species published pursuant to section 4(c) of the Act (as relevant to listed wildlife, the List of Endangered and Threatened Wildlife at 50 CFR 17.11(h)) that such holding and any subsequent holding or use of the fish or wildlife was not in the course of a commercial activity.

Therefore, for pre-Act wildlife, there is a limited exemption from the prohibitions associated with: (1) import into, or export from, the United States of any endangered wildlife, or (2) violation of regulations pertaining to endangered or threatened wildlife. Other prohibitions of section 9—including those at section 9(a)(1)(B)-(F), regarding take of endangered wildlife, possession and other acts with unlawfully taken wildlife, interstate or foreign commerce in endangered wildlife, and sale or offer for sale of endangered wildlife—continue to apply to activities with qualifying endangered pre-Act wildlife specimens. Specimens born after the pre-Act date and specimens taken from the wild after the pre-Act date do not qualify as “pre-Act” wildlife under the text of section 9(b)(1) of the Act. If a person engages in any commercial activity with a “pre-Act” specimen on or after the pre-Act date, the wildlife would immediately cease to qualify as pre-Act wildlife and become subject to the relevant prohibitions, because it has been held or used in the course of a commercial activity.

Additional requirements apply to activities with all blue tree monitors, separate from their listing or proposed listing as an endangered species or threatened species. As a CITES-listed species, all international trade of any blue tree monitor by persons subject to the jurisdiction of the United States must also comply with CITES requirements pursuant to section 9, paragraphs (c) and (g), of the Act (16 U.S.C. 1538(c) and (g)) and to 50 CFR part 23. As “fish or wildlife” (16 U.S.C. 1532(8)), blue tree monitor imports and exports must also meet applicable wildlife import/export requirements established under section 9, paragraphs (d), (e), and (f), of the Act (16 U.S.C. 1538(d), (e), and (f)); the Lacey Act Amendments of 1981 (16 U.S.C. 3371 et seq.); and 50 CFR part 14. Questions regarding whether specific activities with blue tree monitor would constitute a violation of section 9 of the Act should be directed to the Service's Division of Management Authority (managementauthority@fws.gov; 703-358-2104).

Related Temporary Emergency Listing

Published concurrently in the Rules and Regulations section of this issue of the Federal Register, we are exercising our authority pursuant to section 4(b)(7) of the Act to emergency list for 240 days the blue tree monitor (Varanus macraei) as an endangered species due to the imminent risk of extinction resulting from habitat loss and overcollection for the pet trade. For the reasons discussed in the preamble of that temporary rule and in this proposed rule, we propose in this document to make the emergency listing permanent. Please refer to the Regulation Promulgation section of the temporary rule for the amendment to add the blue tree monitor to the List of Endangered and Threatened Wildlife at 50 CFR 17.11(h) that we are proposing to make permanent in this document.

Required Determinations

Clarity of the Rule

We are required by E.O.s 12866 and 12988 and by the Presidential Memorandum of June 1, 1998, to write all rules in plain language. This means that each rule we publish must:

(1) Be logically organized;

(2) Use the active voice to address readers directly;

(3) Use clear language rather than jargon;

(4) Be divided into short sections and sentences; and

(5) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

National Environmental Policy Act (42 U.S.C. 4321 et seq.)

We have determined that environmental assessments and environmental impact statements, as defined under the authority of the National Environmental Policy Act (42 U.S.C. 4321 et seq.), need not be prepared in connection with listing a species as an endangered or threatened species under the Endangered Species Act. We published a notice outlining our reasons for this determination in the Federal Register on October 25, 1983 (48 FR 49244).

References Cited

A complete list of references cited in this proposed rulemaking is available on the internet at https://www.regulations.gov and upon request from the Branch of Delisting and Foreign Species (see FOR FURTHER INFORMATION CONTACT).

Authors

The primary authors of this proposed rule are the staff members of the Fish and Wildlife Service's Species Assessment Team and the Branch of Delisting and Foreign Species.

List of Subjects in 50 CFR Part 17

Endangered and threatened species, Exports, Imports, Plants, Reporting and recordkeeping requirements, Transportation, Wildlife.

Authority

The authority for this action is the Endangered Species Act of 1973, as amended (16 U.S.C. 1531 et seq.).

Signing Authority

Martha Williams, Director of the U.S. Fish and Wildlife Service, approved this action on December 3, 2024. Acting Director Steve Guertin approved these packages December 15, 2024. On December 16, 2024, the acting Director authorized the undersigned to sign the document electronically and submit it to the Office of the Federal Register for publication as an official document of the U.S. Fish and Wildlife Service.

Madonna Baucum,
Regulations and Policy Chief, Division of Policy, Economics, Risk Management, and Analytics of the Joint Administrative Operations, U.S. Fish and Wildlife Service.

[FR Doc. 2024-30376 Filed 12-23-24; 8:45 am]

BILLING CODE 4333-15-P